INTERNATIONAL TRADE COMMISSION

[Inv. No. 337-TA-566]

In the Matter of Certain Chemical Mechanical Planarization Slurries and Precursors to Same; Notice of Correction

AGENCY: U.S. International Trade Commission

ACTION: Correction notice for the subject investigation.

SUMMARY: On April 28, 2006, the Commission published in the Federal Register (71 FR 25227-28) a notice of investigation of certain chemical mechanical planarization slurries and precursors to same under section 337 of the Tariff Act of 1930, as amended (19 U.S.C. 1337). The Commission gives notice of the following needed corrections to the above mentioned notice: (1) In the section labeled SUMMARY, U.S. Patent No. “5,980,773” should read “5,980,775;” and (2) in the section labeled SCOPE OF INVESTIGATION, U.S. Patent No. “5,980,773” should read “5,980,775.”

DATES: Effective Date: May 24, 2006.

FOR FURTHER INFORMATION CONTACT: Steven R. Pedersen, Esq., Office of Unfair Import Investigations, U.S. International Trade Commission, telephone 202-205-2781. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

By order of the Commission.
Issued: May 24, 2006.
Marilyn R. Abbott,
Secretary to the Commission.

[FR Doc. E6-8367 Filed 5-30-06; 8:45 am]

BILLING CODE 7020-02-P